DEPARTMENT OF THE TREASURY

Internal Revenue Service

26 CFR Part 1

[TD 8925]

RIN 1545-AX32

Partnership Mergers and Divisions; Correction

AGENCY: Internal Revenue Service (IRS), Treasury.

ACTION: Correcting Amendment.

SUMMARY: This document contains corrections to final regulations (TD 8925), which were published in the Federal Register on Thursday, January 4, 2001 (66 FR 715), relating to the tax consequences of partnership mergers and divisions.

EFFECTIVE DATE: January 4, 2001.

FOR FURTHER INFORMATION CONTACT: Mary Beth Collins (202) 622-3080 or Daniel Carmody (202) 622-3050 (not toll-free numbers).

SUPPLEMENTARY INFORMATION:

Background

The final regulations that are the subject of these corrections are under section 708 of the Internal Revenue Code.

Need for Correction

As published, final regulations (TD 8925) contains errors which may prove to be misleading and are in need of clarification.

List of Subjects in 26 CFR Part 1

Income taxes, Reporting and recordkeeping requirements.

Accordingly, 26 CFR part 1 is corrected by making the following correcting amendments:

PART 1—INCOME TAXES

1. The authority citation for part 1 continues to read in part as follows:

Authority: 26 U.S.C. 7805. * * *

PART 1—[Corrected]

2. Each entry listed in the “Section/Location” column in the following table is amended by removing the text indicated in the “Remove” column, and adding the text indicated in the “Add” column.

Section/Location | Remove | Add
§ 1.708-1(b)(4) second sentence | (b)(1)(i) | (b)(1)
§ 1.708-1(b)(4), in four locations in third sentence | (b)(1)(iv) | (b)(4)
§ 1.708-1(b)(4), Example. (iii), last sentence | § 1.708-1(b)(1)(iv) | § 1.708-1(b)(4)
§ 1.708-1(b)(5), in three locations in last sentence | (b)(1)(v) | (b)(5)

Cynthia E. Grigsby,
Chief, Regulations Unit, Associate Chief Counsel (Income Tax & Accounting).

[FR Doc. 02-22927 Filed 9-9-02; 8:45 am]

BILLING CODE 4830-01-P